ENVIRONMENTAL PROTECTION AGENCY

[FRL-7010-4]

Divex Superfund Site Notice to Rescind Previous Federal Register Notice

AGENCY: Environmental Protection Agency.

ACTION: Notice to Rescind Previous Federal Register Notice.

SUMMARY: On June 25, 2001, the Environmental Protection Agency (EPA) published a Notice of Proposed Settlement for response cost incurred by the EPA at the Divex Superfund Site (site) located in Columbia, South Carolina. The purpose of this notice is to rescind EPA's June 25, 2001 Federal Register Notice at (66 FR 33684) regarding the settlement of response costs at the Site. The Notice of Proposed Settlement for the Site may be republished in the future following final approval of the settlement.

Date June 28, 2001.
Franklin E. Hill,
Chief, CERCLA Program Services Branch, Waste Management Division.

[FR Doc. 01-17337 Filed 7-10-01; 8:45 am]

BILLING CODE 6560-50-P